DEPARTMENT OF ENERGY

Federal Energy Regulatory Commission

[Docket Nos. EL03-17-000, QF87-365-005; QF90-43-004 and QF91-59-005]

Investigation of Certain Enron-Affiliated QFs, Zond Windsystems Holding Company, Victory Garden Phase IV Partnership, Sky River Partnership; Notice Establishing Comment Date

November 14, 2002.

On October 24, 2002, the Commission issued an order initiating investigation and hearing (Order) in the above-docketed proceedings. By this notice, the date for the filing of motions to intervene, comments, and protests is December 5, 2002.

Linwood A. Watson, Jr.,
Deputy Secretary.

[FR Doc. 02-29829 Filed 11-22-02; 8:45 am]

BILLING CODE 6717-01-P